DEPARTMENT OF ENERGY

Federal Energy Regulatory Commission

[Docket No. EL11-26-000]

Wabash Valley Power Association, Inc.; Notice of Petition for Declaratory Order

Take notice that on March 3, 2011, section 554(e) of the Administrative Procedure Act, 5 U.S.C. 554(e) and Rule 207(a)(2) of the Rules of Practice and Procedure of the Federal Energy Regulatory Commission (Commission), 18 CFR 385.207(a)(2) (2010), Wabash Valley Power Association, Inc. (WVPA) filed a Petition Declaratory Order that finds (i) the Commission has exclusive jurisdiction over the Commission-approved Wabash Valley Electric Tariff Volume No. 1 (Formula Rate Tariff) and the related Wholesale Power Supply Contract between WVPA and Northeastern Rural Electric Membership Corporation (NREMC), filed as WVPA's Rate Schedule 27 (NREMC Rate Schedule) and the rates, terms and conditions thereunder; (ii) changes to the rates paid by NREMC under the Formula Rate Tariff and NREMC Rate Schedule are subject to approval of the applicable regulatory authorities and (iii) the Commission is the applicable regulatory authority with jurisdiction over the rates NREMC pays under the Formula Rate Tariff and the NREMC Rate Schedule and any objection to those rates.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Monday, April 4, 2011.

Dated: March 4, 2011.
Kimberly D. Bose,
Secretary.

[FR Doc. 2011-5487 Filed 3-9-11; 8:45 am]

BILLING CODE 6717-01-P